DEPARTMENT OF AGRICULTURE

Forest Service

National Urban and Community Forestry Advisory Council

AGENCY: Forest Service, USDA.

ACTION: Notice: 2014 call for nominations.

SUMMARY: The National Urban and Community Forestry Advisory Council, (NUCFAC) will be filling five positions that will expire December 31, 2013. Interested applicants may download a copy of the application and position descriptions from the U.S. Department of Agriculture, Forest Service's Urban and Community Forestry Web site: www.fs.fed.us/ucf/nucfac.

DATES: Nomination(s) must be “received” (not postmarked) by August 31, 2013.

ADDRESSES: Nomination applications by courier should be addressed to: Nancy Stremple, Executive Staff to National Urban and Community Forestry Advisory Council, RPE9, 1621 North Kent Street, Rosslyn, VA 22209. Please submit electronic nomination(s) to: nucfac_ucf_proposals@fs.fed.us. The subject line should read: 2014 NUCFAC Nominations.

FOR FURTHER INFORMATION CONTACT: Nancy Stremple, Executive Staff to the National Urban and Community Forestry Advisory Council, 1400 Independence Avenue SW., Yates Building (1 Central) MS-1151, Washington, DC, phone 202-205-7829.

Individuals who use telecommunication devices for the deaf (TDD) may call the Federal Information Relay Service (FIRS) at 1-800-877-8339 between 8:00 a.m. and 8:00 p.m., Eastern Day Light Savings Time, Monday through Friday.

SUPPLEMENTARY INFORMATION: Facsimiles will not be accepted as official nominations. Email or courier service is recommended. Regular mail submissions must be screened by the Agency and may delay the receipt of the application.

A total of five positions will be filled. The following five positions will serve a 3-year term from January 1, 2014, to December 31, 2016:

• One of two members representing a national non-profit forestry and/or conservation citizen organization;

• A member representing State government;

• A member representing county government;

• A member representing urban forestry, landscape, and design consultants;

• A member representing a professional renewable natural resource or arboriculture society.

Dated: July 9, 2013.
Gregory Parham,
Assistant Secretary of Administration.

[FR Doc. 2013-16991 Filed 7-15-13; 8:45 am]

BILLING CODE 3410-11-P